Title 3—

The President

Proclamation 7622 of November 5, 2002

In Celebration of the Centennial of the West Wing of the White House, 2002

By the President of the United States of America

A Proclamation

For 100 years, the West Wing of the White House has served as the workplace of the President of the United States and his staff. Now housing the Oval Office, the Roosevelt Room, Cabinet Room, offices of the President's senior staff, and the James C. Brady Press Briefing Room, the West Wing has become the center of executive branch operation.

Prior to 1902, the President and his staff worked out of offices housed in the White House Residence, causing crowded staff conditions and a lack of privacy for the President's family. This overcrowding prompted planning for the construction of a new wing to serve as offices for the President and his staff. While plans were reviewed during several Administrations, construction did not begin until Theodore Roosevelt's presidency. The wing was completed in 1902, and the Presidential Offices were then moved from the Residence to the new addition. The wing underwent a major expansion in 1909, doubling its size, and further renovations were done in 1929, 1934, and 1969.

Following a Christmas Eve fire in 1929, renovations and restoration displaced Herbert Hoover for several months while new and improved facilities were built. In 1934 the Oval Office was moved to its current location on the southeast corner, over looking the Rose Garden. In the 1940's, the building became known as the “West Wing.”

For a century, the West Wing has served as the headquarters of White House staff members who work to address national and international concerns, advance democracy, and secure a future of opportunity for all. Government and military leaders, Olympic athletes, college champions, artists, entertainers, and citizens from around the world have been welcomed to the West Wing to attend briefings, meetings, bill signing ceremonies, and countless activities that have contributed to the prosperity and security of our Nation and the world. As we celebrate its 100th anniversary, I encourage all Americans to recognize the vital role the West Wing has played in the ongoing work to ensure that the United States of America remains a beacon of freedom, and symbol of hope.

NOW, THEREFORE, I, GEORGE W. BUSH, President of the United States of America, by virtue of the authority vested in me by the Constitution and laws of the United States, do hereby proclaim Wednesday, November 6, 2002, as West Wing Centennial Day. I encourage all Americans to commemorate this occasion with appropriate programs and activities, thereby celebrating this important part of our American heritage and the values it represents and upholds for our Nation and the world.

IN WITNESS WHEREOF, I have hereunto set my hand this fifth day of November, in the year of our Lord two thousand two, and of the Independence of the United States of America the two hundred and twenty-seventh.

B

[FR Doc. 02-28711

Filed 11-7-02; 8:45 am]

Billing code 3195-01-P